DEPARTMENT OF HEALTH AND HUMAN SERVICES

Administration for Community Living

Notice of Intent To Award a Single Source Non-Competing Continuation Cooperative Agreement for Two National Activities Grant Projects Under Section 6 of the Assistive Technology Act of 1998, as Amended (AT Act)

AGENCY: Administration for Community Living, Department of Health and Human Services.

ACTION: Notice.

SUMMARY: The Administration for Community Living (ACL) is transitioning the Rehabilitation Engineering and Assistive Technology Society of North America (RESNA) Catalyst Project Assistive Technology Technical Assistance Center (AT TA Center) and the University of New Hampshire Institute on Disability Assistive Technology Public Internet Site (National AT Web site) to ACL as a result of the Workforce Opportunity Improvement Act (Pub. L. 113-128) signed by President Obama in July 2014.

The RESNA Catalyst Project is a national training and technical assistance center for assistive technology programs that provides comprehensive information and state-specific, regional and national resources to entities funded under Sections 4 and 5 of the AT Act to improve the implementation and effectiveness of their programs, and to provide appropriate technical assistance and training to entities not funded under the AT Act to improve awareness of and access to assistive technology.

The University of New Hampshire Institute on Disability supports the renovation, updating, and maintenance of an accessible National AT Web site that provides the public comprehensive, up-to-date information on accommodating individuals with disabilities and resources related to assistive technology, including but not limited to programs under the AT Act.

The RESNA Catalyst Project and New Hampshire National AT Web site previously operated through a cooperative agreement with the U.S. Department of Education, Rehabilitation Services Administration. The Department of Health and Human Services is currently transitioning programs under the AT Act to ACL.

DATES: Estimated Project Period—September 30, 2015 through September 30, 2016

SUPPLEMENTARY INFORMATION:

Program Name: Assistive Technology National Activities.

Award Amount: $640,000 to Rehabilitation Engineering and Assistive Technology Society of North America; $100,000 to University of New Hampshire Institute on Disability.

Project Period: 9/30/2015 to 9/30/2016.

Award Type: Cooperative Agreement.

Statutory Authority: This program is authorized under Section 6 of the Assistive Technology Act of 1998, as amended (29 U.S.C. 3005)

Catalog of Federal Domestic Assistance (CFDA) Number: 93.464 Discretionary Projects

Program Description

The purpose of the National Activities cooperative agreements with RESNA and the University of New Hampshire is to continue existing activities designed to support and improve the administration of the AT Act. The grantees will continue to use both traditional and innovative approaches that will assist individuals and entities through information dissemination and provide state-specific, regional and national training and technical assistance concerning assistive technology.

Justification: ACL is currently working on transitioning the Assistive Technology National Activities program to ACL. To ensure uninterrupted continuation of the grant goals and objectives, ACL plans to issue a one year non-competing award to both RESNA and the University of New Hampshire.

FOR FURTHER INFORMATION CONTACT: For further information or comments regarding this action, contact Lori Gerhard, U.S. Department of Health and Human Services, Administration for Community Living, Center for Consumer Access and Self-Determination, Office of Integrated Programs, One Massachusetts Avenue NW., Washington, DC 20001; telephone (202) 357-3443; fax (202) 357-3469; email Lori.Gerhard@acl.hhs.gov.

Dated: May 13, 2015.
Kathy Greenlee,
Administrator and Assistant Secretary for Aging.

[FR Doc. 2015-11961 Filed 5-15-15; 8:45 am]

BILLING CODE 4154-01-P